DEPARTMENT OF ENERGY

Federal Energy Regulatory Commission

[Docket No. EG02-185-000, et al.]

FPL Energy Seabrook, LLC, et al.; Electric Rate and Corporate Regulation Filings

September 18, 2002.

The following filings have been made with the Commission. The filings are listed in ascending order within each docket classification.

1. FPL Energy Seabrook, LLC

[Docket No. EG02-185-000]

Take notice that on September 13, 2002, FPL Energy Seabrook, LLC, c/o FPL Energy, LLC, 700 Universe Boulevard, Juno Beach, FL 33408, filed with the Federal Energy Regulatory Commission (Commission) an application for determination of exempt wholesale generator status pursuant to Part 365 of the Commission's regulations.

The applicant states that it is a limited liability company that will engage directly or indirectly and exclusively in the business of owning and/or operating eligible facilities in the United States and selling electric energy at wholesale. The applicant proposes to own the Seabrook Nuclear Generating Station, located in the Town of Seabrook, the Town of Hampton and the Town of Hampton Falls, New Hampshire, and related facilities. The applicant seeks a determination of its exempt wholesale generator status. All electric energy sold by the applicant will be sold exclusively at wholesale.

Comment Date: October 9, 2002.

2. CMS Generation Michigan Power, L.L.C.

[Docket No. ER99-3677-001]

Take notice that on September 13, 2002 CMS Generation Michigan Power, L.L.C. tendered for filing an updated market power analysis in accordance with the order issued by the Federal Energy Regulatory Commission dated September 15, 1999, in Docket No. ER99-3677-000.

Comment Date: October 4, 2002.

3. Dearborn Industrial Generation, L.L.C.

[Docket Nos. ER02-1689-003]

Take notice that on September 13, 2002, Dearborn Industrial Generation, L.L.C. (DIG) tendered for filing with the Federal Energy Regulatory Commission (Commission), an amendment to its filing in these dockets in compliance with the Commission's August 30, 2002, order herein.

DIG intends to make sales of ancillary services at market-based rates, in addition to engaging in electric power and energy purchases and sales at market-based rates, which were previously authorized by FERC on February 27, 2001.

Comment Date: October 4, 2002.

4. Occidental Power Services, Inc.

[Docket No. ER02-1947-001]

Take notice that on September 10, 2002, Occidental Power Services, Inc. (Occidental) filed an Application for Blanket Authorization, Certain Waivers, and Order Approving Rate Schedule for Sale of Electric Capacity and Energy at Market-Based Rates. The Commission approved this application and issued an Order on July 30, 2002.

Occidental has identified several minor factual errors in the Application and herewith submits a redline version of the revised Application.

Comment Date: October 1, 2002.

Standard Paragraph

E. Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-24320 Filed 9-25-02; 8:45 am]

BILLING CODE 6717-01-P